FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Notification of Performance of Bank Services.

OMB Number: 3064-0029.

Form Number: 6120/06.

Annual Burden:

Estimated annual number of respondents: 412.

Estimated time per response: ½ hour.

Total annual burden hours: 206 hours.

Expiration Date of OMB Clearance: August 31, 2002.

Supplementary Information: Insured state nonmember banks are required to notify the FDIC, under section 7 of the Bank Service Company Act (12 U.S.C. 1867), of the relationship with a bank service company. Form FDIC 6120/06 (Notification of Performance of Bank Services) may be used by banks to satisfy the notification requirement.

2. Type of Review: Renewal of a currently approved collection.

Title: Prompt Corrective Action.

OMB Number: 3064-0115.

Annual Burden:

Estimated annual number of respondents: 10.

Estimated time per response: 4 hours.

Total annual burden hours: 40 hours.

Expiration Date of OMB Clearance: August 31, 2002.

Supplementary Information: The prompt corrective action provisions of section 38 of the Federal Deposit Insurance Act require or permit the FDIC and other federal financial regulators to take certain supervisory actions when FDIC-insured institutions fall within one of five categories. The collection consists of applications to otherwise restricted activities.

OMB Reviewer: Joseph Lackey, (202) 395-4741, Office of Management and Budget, Office of Information and Regulatory Affairs, Washington, DC 20503.

FDIC Contact: Tamara R. Manly, (202) 898-7453, Legal Division, Room MB-3109, Federal Deposit Insurance Corporation, 550 17th Street NW., Washington, DC 20429.

Comments: Comments on these collections of information are welcome and should be submitted on or before August 28, 2002, to both the OMB reviewer and the FDIC contact listed above.

Addresses: Information about this submission, including copies of the proposed collections of information, may be obtained by calling or writing the FDIC contact listed above.

Dated: July 23, 2002.
Federal Deposit Insurance Corporation.
Robert E. Feldman,
Executive Secretary.

[FR Doc. 02-19067 Filed 7-26-02; 8:45 am]

BILLING CODE 6714-01-P